DEPARTMENT OF COMMERCE

International Trade Administration

Rutgers University; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Room 4211, U.S. Department of Commerce, 14th and Constitution Avenue, NW., Washington, DC.

Docket Number: 01-012. Applicant: Rutgers University, Piscataway, NJ 08854-8019. Instrument: Floating-Zone Optical Furnace, Model FZ-T-10000-H-VI-VP. Manufacturer: Crystal Systems, Inc., Japan. Intended Use: See notice at 66 FR 32601, June 15, 2001.

Comments: None received. Decision: Approved. No instrument of equivalent scientific value to the foreign instrument, for such purposes as it is intended to be used, is being manufactured in the United States. Reasons: The foreign instrument provides a four-mirror image furnace with a homogeneous temperature gradient around the horizontal plane with a simultaneous steeper temperature gradient along the vertical portion for growth of various oxide single crystals. The National Aeronautics and Space Administration advised July 23, 2001 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 01-19049 Filed 7-30-01; 8:45 am]

BILLING CODE 3510-DS-P